DEPARTMENT OF JUSTICE

Notice of Lodging of Consent Decree Pursuant to Comprehensive Environmental Response, Compensation, and Liability Act

Notice is hereby given that on April 16, 2007, a proposed Consent Decree in United States v. ExxonMobil Corporation, et al., Civil Action No. 1:07-cv-00060-PB, was lodged with the United States District Court for the District of New Hampshire. And on April 20, 2007, the same proposed Consent Decree was lodged with the United States District Court for the District of New Hampshire in State of New Hampshire v. ExxonMobil Corporation et al., Civil Action No. 1:07-cv-00080-PB.

The proposed Consent Decree will settle the United States' claims on behalf of the U.S. Environmental Protection Agency (“EPA”) and the claims of the State of New Hampshire brought against defendants ExxonMobil Corporation, Cumberland Farms, Inc., FirstGroup America, Inc., Hexion Specialty Chemicals, Inc., Waste Management of New Hampshire, Inc., Waste Management Disposal Services of Massachusetts, Inc., Waste Management of Massachusetts, Inc., Clean Harbors of Braintree, Inc., Fluor Enterprises, Inc., Sears, Roebuck and Company, Greased Lightning, Inc., Fafard Real Estate and Development Corporation, Drake Petroleum Company, Inc., P.J. Keating Company, Triumvirate Environmental, Inc., Boston & Maine Corporation, Colonial Gas Company (d/b/a Keyspan Energy Delivery New England), United Parcel Service, GenCorp, Inc., Laidlaw Transit, Inc., DBT Corporation, 1400 Motors, Inc., Pike Industries, Inc., City of Providence, Rhode Island, Covanta Haverhill, Inc., Fort James Corporation, Coca-Cola Enterprises, Inc., Regan Ford, Inc., Marble Motor Company, A & B Automotive, Inc., Air Products and Chemicals, Inc., Balise Motor Sales Company, Aggregate Industries—Northeast Region, Inc., Windham Equity Company, City of Boston, Massachusetts, City of Gloucester, Massachusetts, Peabody Municipal Light Plant, City of Peabody, Massachusetts, Colonial Cadillac-Oldsmobile, Inc., Continental Paving, Inc., Daley Oil Company, Dampolo Automotive, Inc., Colonial South Chevrolet, Inc., Enzo's Nahant Garage, Garelick Farms, L.L.C., General Electric Company, Inc., Haffner's Service Station, H.J. Nassar Motor Company, Inc., Hughes Motor Company, Jaffarian's Service, Inc., Arvo's Gulf, McKenna & O'Keefe, Merchants Automotive Group, Inc., Murphy's Waste Oil Service, Inc., Massachusetts Water Resources Authority, New England Detroit Diesel-Allison, Inc., Massachusetts Electric Company, New England Power Company, Butler Realty Trust (d/b/a Noyes Citgo Service Station), Pelletier Brothers' Garage, Plymouth & Brockton Street Railway Company, Plymouth Rock Transportation Corporation, Pratt & Whitney, a Division of United Technologies, Inc., Daniel J. Quirk, Inc. (d/b/a Quirk Chevrolet), D.J. Quirk Ford, Inc., R.B. Strong Excavating & Sewerage Contracting, Inc., Reynolds Auto Repair, Rick Starr Enterprises, Inc. (d/b/a Rick Starr Toyota, Rick Starr Volkswagen BMW, Rick Starr Pontiac Cadillac, Rick Starr Toyota Pontiac, and Rick Starr Ford), Rietzl Corporation, Ruland Manufacturing Company, Signature Flight Support Corporation, Silva's Garage, Smith Motor Sales of Haverhill, Inc., Sudbay Pontiac, Cadillac, Buick, Inc., Towers Front End Service, Town of Andover, Massachusetts, Town of Ipswich, Massachusetts, Town of Marshfield, Massachusetts, Vachon Motor Sales, Inc. (d/b/a Vachon Mazda), Vachon Imports, Inc. (d/b/a Vachon Mitsubishi), Gene Brown Motors (d/b/a Volvo Villate), WNA Comet East, Inc., Woodworth Chevrolet-Cadillac-Buick, Inc. Yeo Chevrolet, Inc., Henry's Auto Parts, Inc., James M. Scanzini (d/b/a Criterion Systems), John E. Power (d/b/a Power's Auto Service), Larry's Service, Mel's Auto Services, Inc., Micromatic Products Company, Inc., S & H Petroleum Corporation, Truck Services, Inc., Wayside Service Center, Hampshire Realty Trust, Sun Realty Trust, and Mark O. Henry (collectively referred to as “Settling Defendants”) pursuant to Sections 106 and 107 of the Comprehensive Environmental Response, Compensation, and Liability Act (“CERCLA”), 42 U.S.C. 9606 and 9607, with respect to the Beede Waste Oil Superfund Site in Plaistow, New Hampshire. The State of New Hampshire also brought claims pursuant to New Hampshire RSA 147-A:9 and 147-B:10 and also alleged claims against five federal agencies.

Pursuant to the Consent Decree, approximately 30 Settling Defendants, referred to in the Consent Decree as Performing Settling Defendants, will finance and perform the selected remedy at the Site, estimated to cost $48 million, and will receive approximately $23 million from other settling parties and from the Beede Superfund Special Account to offset the cost of the work. In addition, the Performing Settling Defendants will reimburse the United States and the State of New Hampshire for all interim and future costs, and oversight costs up to $9.3 million (U.S. oversight costs capped at $7.2 million and New Hampshire oversight costs capped at $2.1 million). The owners of the Site property, who are Settling Defendants, will convey the Site property by deed to an entity designated by the Performing Settling Defendants. The remaining Settling Defendants are de minimis parties and shall pay a total of approximately $8 million toward financing the work at the Site. The Consent Decree also resolves the claims against the five agencies of the United States: the Department of the Air Force, the Department of the Army, the Department of the Navy, the Federal Aviation Administration, and the United States Postal Service (“Settling Federal Agencies”). Pursuant to the Consent Decree, the Settling Federal Agencies shall pay approximately $14 million toward financing the work at the Site.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. ExxonMobil Corporation, et al., Civil Action No. 1:07-cv-00060-PB, D.J. Ref. 90-11-3-07039/11.

The proposed Consent Decree may be examined at the Office of the United States Attorney, District of New Hampshire, 53 Pleasant Street, Concord, New Hampshire 03301, and at the United States Environmental Protection Agency, Region I, 1 Congress Street, Suite 1100, Boston, Massachusetts 02114-2023. During the public comment period, the proposed Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy by mail from the Consent Decree Library, please enclose a check in the amount of $184.75 ($0.25 per page reproduction cost) payable to the United States Treasury or, if requesting by e-mail or fax, forward a check in that amount to the consent Decree Library at the stated address. if requesting a copy exclusive of exhibits and/or defendants' signatures, please enclose a check in the amount of $32.75 ($0.25 per page reproduction cost) payable to the United States Treasury.

Maureen Katz,
Assistant Chief, Environmental Enforcement Section, Environment and Natural Resources Division.

[FR Doc. 07-2163 Filed 5-2-07; 8:45 am]

BILLING CODE 4410-15-M